DEPARTMENT OF JUSTICE

[OMB Number 1110-0065]

Agency Information Collection Activities; Proposed eCollection eComments Requested; Extension With Change, of a Previously Approved Collection 2013 Private Industry Feedback Survey

AGENCY: Cyber Division, Federal Bureau of Investigation, Department of Justice.

ACTION: 30-Day notice.

SUMMARY: The Department of Justice (DOJ), Federal Bureau of Investigation (FBI), Cyber Division (CyD) has submitted the following Information Collection Request to the Office of Management and Budget (OMB) for review and clearance in accordance with the established review procedures of the Paperwork Reduction Act of 1995. The proposed information collection is published to obtain comments from the public and affected agencies.

DATES: Comments are encouraged and will be accepted for an additional days until August 13, 2018.

FOR FURTHER INFORMATION CONTACT: If you have additional comments especially on the estimated public burden or associated response time, suggestions, or need a copy of the proposed information collection instrument with instructions or additional information, please contact Stacy Stevens, Unit Chief, FBI, Cyber Division, 935 Pennsylvania Ave. NW, Washington, DC 20535 (facsimile: 703-633-5797; email: slstevens2@fbi.gov) or Stacey Rubin, Management and Program Analyst, FBI, Cyber Division, 935 Pennsylvania Ave. NW, Washington, DC 20535 (facsimile: 703-633-5797; email: sjrubin@fbi.gov). Written comments and/or suggestions can also be directed to the Office of Management and Budget, Office of Information and Regulatory Affairs, Attention Department of Justice Desk Officer, Room 10235, 725 17th Street NW, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of this information collection:

1. Type of Information Collection: Extension with change of a currently approved collection.

2. The Title of the Form/Collection: 2013 Private Industry Feedback Survey.

3. The agency form number, if any, and the applicable component of the Department sponsoring the collection: There is not a form number on the survey.

4. Affected public who will be asked or required to respond, as well as a brief abstract:The FBI, Cyber Division, produces reports that provide information related to cyber trends and threats for private sector partners. The reports are referred to as Private Industry Notifications (PINs) and FBI Liaison Alert Systems (FLASHs). In order to improve the PIN/FLASH reports, a “Feedback” Section has been added to the reports containing a URL that links to a voluntary online survey. The results of the survey are reviewed by CyD and used to improve future reports to better serve the FBI's private sector partners.

5. An estimate of the total number of respondents and the amount of time estimated for an average respondent to respond: An estimated 5,000 respondents will complete the survey. It is estimated that it takes each respondent 3 minutes to complete the survey.

6. An estimate of the total public burden (in hours) associated with the collection: The estimated public burden associated with this collection is 250 hours.

If additional information is required contact: Melody Braswell, Department Clearance Officer, United States Department of Justice, Justice Management Division, Policy and Planning Staff, Two Constitution Square, 145 N Street NE, 3E.405A, Washington, DC 20530.

Dated: July 10, 2018.
Melody Braswell,
Department Clearance Officer, PRA, U.S. Department of Justice.

[FR Doc. 2018-14991 Filed 7-12-18; 8:45 am]

BILLING CODE 4410-02-P